DEPARTMENT OF TRANSPORTATION

Federal Aviation Administration

14 CFR Part 129

International Aviation Safety Assessment (IASA) Program

AGENCY: Federal Aviation Administration (FAA), Department of Transportation (DOT).

ACTION: Suspension of policy statement.

SUMMARY: On September 28, 2022, the FAA published a Policy Statement in the Federal Register that described policy changes to the FAA's International Aviation Safety Assessment (IASA) program as well as clarification or restatement of prior policy to “enhance engagement with civil aviation authorities (CAAs) through pre- and post-IASA assessment and to promote greater transparency.” After receiving inquiries and questions about the changes described in that policy statement, the FAA is suspending implementation of the September 28, 2022, Policy Statement while the agency reassesses the policy. The policy statement published March 8, 2013, remains active.

DATES: The policy statement published at 87 FR 58725 (September 28, 2022) is suspended as of August 16, 2024.

FOR FURTHER INFORMATION CONTACT: Rolandos Lazaris, Division Manager, International Program Division (AFS-50), Flight Standards Service, Federal Aviation Administration, 800 Independence Avenue SW, Washington, DC 20591; (202) 267-3719.

SUPPLEMENTARY INFORMATION:

Background

The IASA program is the means by which the FAA determines whether another country's oversight of its air carriers that (1) operate, or seek to operate, services to/from the United States using their own aircraft and crews, or (2) seek to display the code of a U.S. air carrier on any services, complies with safety standards established by the International Civil Aviation Organization (ICAO). The published IASA results of a country's placement in Category 1 or Category 2 is the notification to the U.S. traveling public as to whether a foreign air carrier's homeland civil aviation authority meets ICAO safety standards. A Category 1 rating indicates that the civil aviation authority meets ICAO safety standards for these operations, and a Category 2 rating indicates that the civil aviation authority does not meet ICAO safety standards. The IASA program was established by a document published in the Federal Register in 1992. Subsequent published documents in the Federal Register notified of the program's evolution. These Federal Register documents are as follows:

• August 24, 1992—Established the FAA Procedures for Examining and Monitoring Foreign Air Carriers (57 FR 38342).

• September 8, 1994—Established the Public Disclosure of the Results of Foreign Civil Aviation Authority Assessments, through a three-category numbered rating system (59 FR 46332).

• October 31, 1995—DOT Notice Clarification Concerning Examination of Foreign Carriers' Request for Expanded Economic Authority, clarified the Department's licensing policy regarding requests for expanded economic authority from foreign air carriers whose CAA's safety oversight capability has been assessed by the FAA as conditional (Category II) or unacceptable (Category III) (60 FR 55408).

• May 25, 2000—Changes to the International Aviation Safety Assessment program removed the Category 3 rating and combined it with Category 2 (65 FR 33751).

• March 8, 2013—Changes to the International Aviation Safety Assessment program removed inactive countries (countries with no air carrier operations to the United States or code-shares with U.S. air carrier for four years and no significant interaction between the country's CAA and the FAA) from the IASA Category list (78 FR 14912).

Through the IASA program, the FAA seeks continuous improvement to global aviation safety. As noted in the above-referenced policy statement of September 8, 1994, initial IASA assessments found that two-thirds of the assessed CAAs were deficient in meeting their safety oversight obligations under the Convention on International Civil Aviation.

The September 28, 2022, Policy Statement (87 FR 58725) (now suspended) announced certain changes to the IASA program and provided clarification to other aspects of the IASA policy. Since that publication, the FAA and DOT have received inquiries and questions that warrant reassessment of those changes and clarifications, and an opportunity for public comment before they are adopted permanently. As noted above, the FAA is suspending implementation of the September 28, 2022, Policy Statement while the agency reassesses the policy and considers public comments. Public comment is invited on the matters and issues described in the companion document published elsewhere in this issue of the Federal Register.

Issued in Washington, DC.
Jodi L. Baker,
Deputy Administrator for Aviation Safety.

[FR Doc. 2024-16954 Filed 8-15-24; 8:45 am]

BILLING CODE 4910-13-P